OFFICE OF THE UNITED STATES TRADE REPRESENTATIVE

[Docket Number USTR-2020-0037]

Notice of Public Hearing in Section 301 Investigation of Vietnam's Acts, Policies, and Practices Related to Currency Valuation

AGENCY: Office of the United States Trade Representative.

ACTION: Notice.

SUMMARY: The Office of the United States Trade Representative (USTR) will convene a virtual public hearing and accept rebuttal comments in the Section 301 investigation concerning Vietnam's acts, policies, and practices related to the valuation of its currency.

DATES:

December 10, 2020, at 11:59 p.m.: To be assured of consideration, you must submit requests to appear at the hearing by this date. The request to appear must include a summary of the testimony.

December 29, 2020, at 9:30 a.m.: Hearing will be held virtually.

January 7, 2021, at 11:59 p.m.: To be assured of consideration, post-hearing rebuttal comments must be submitted by this date.

ADDRESSES: You should submit requests to appear at the hearing, hearing testimony, and written rebuttal comments through the Federal eRulemaking Portal: www.regulations.gov (Regulations.gov). Follow the instructions for submitting comments in section III. The docket number is USTR2020-0-037. For issues with on-line submissions, contact the Section 301 line at (202) 395-5725.

FOR FURTHER INFORMATION CONTACT: For procedural questions concerning the submission of documents, contact the Section 301 line at (202) 395-5725. For questions concerning the public hearing, contact Michael Gagain, Assistant General Counsel, (202) 395-9529.

SUPPLEMENTARY INFORMATION:

I. Background

On October 2, 2020, the U.S. Trade Representative initiated an investigation pursuant to Section 301 of the Trade Act of 1974, of whether Vietnam's acts, policies, and practices related to the valuation of its currency are unreasonable or discriminatory and burden or restrict U.S. commerce. See 85 FR 63637. USTR invited interested persons to submit written comments by November 12, 2020, regarding the issues in the investigation.

II. Hearing and Rebuttal Comments

USTR will hold a virtual public hearing in this investigation on Tuesday, December 29, 2020. To be assured of consideration, you must submit requests to testify at the virtual hearing, and summaries of your testimony, by December 10, 2020, at 11:59 p.m. Because the hearing will be public, your testimony should not include any confidential information.

USTR will post information regarding access to the virtual public hearing at https://ustr.gov/issue-areas/enforcement/section-301-investigations/section-301-vietnam. In addition, USTR will contact persons who are testifying at the hearing regarding the procedures for participation.

You may request to testify on the issues covered by the investigation. See 85 FR 63637. In particular, USTR invites hearing testimony regarding:

• Whether Vietnam's currency is undervalued, and the level of the undervaluation.

• Vietnam's acts, policies, or practices that contribute to undervaluation of its currency.

• The extent to which Vietnam's acts, policies, or practices contribute to the undervaluation.

• Whether Vietnam's acts, policies and practices are unreasonable or discriminatory.

• The nature and level of burden or restriction on U.S. commerce caused by the undervaluation of Vietnam's currency.

• The determinations required under section 304 of the Trade Act, including what action, if any, should be taken.

USTR will offer a further opportunity for public comment in the event actions affecting specific products or services are considered in the investigation. Accordingly, the upcoming hearing will not involve testimony regarding specific products or services that might be affected by an action in the investigation.

USTR will consider rebuttal comments submitted by January 7, 2021. Rebuttal comments should be strictly limited to demonstrating errors of fact or analysis not pointed out in the written submissions or hearing testimony and should be as concise as possible.

III. Submission Procedures

Requests to appear and summaries of testimony, as well as rebuttal comments, must be submitted on Regulations.gov. To make a submission via Regulations.gov, enter docket number USTR-2020-0037 in the `search for' field on the home page and click `search.' The site will provide a search results page listing all documents associated with this docket. Find a reference to this notice by selecting `notice' under `document type' in the `filter results by' section on the left side of the screen and click on the link entitled `comment now.'

When submitting a request to appear and a summary of your testimony, provide in the `comment' field on the next page the full name, address, email address, and telephone number of the person who wishes to present the testimony. To submit a written statement or summary, Regulations.gov allows users to provide comments by filling in a `type comment' field or by attaching a document using the `upload file(s)' field. USTR prefers that you provide submissions in an attached document. The file name should include the name of the person who will be presenting the testimony, or if not testifying, the name of the person submitting the statement. The name of the presenter also should be clear in the content of the file itself. All submissions must be in English and be prepared in (or be compatible with) Microsoft Word (.doc) or Adobe Acrobat (.pdf) formats. Include any data attachments to the submission in the same file as the submission itself, and not as separate files. For additional information on using Regulations.gov, please consult the resources provided on the website by clicking on `how to use this site' on the left side of the home page.

For any rebuttal comments that contain business confidential information (BCI), the file name of the business confidential version should begin with the characters `BCI.' You must clearly mark any page containing BCI by including `BUSINESS CONFIDENTIAL' on the top of that page and clearly indicating, via brackets, highlighting, or other means, the specific information that is BCI. If you request business confidential treatment, you must certify in writing that disclosure of the information would endanger trade secrets or profitability, and that you would not customarily release the information to the public. Filers of submissions containing BCI also must submit a public version of their comments. The file name of the public version should begin with the character `P.' Follow the `BCI' and `P' with the name of the person or entity submitting the comments. If these procedures are not sufficient to protect BCI or otherwise protect business interests, please contact the Section 301 line at (202) 395-5725 to discuss whether alternative arrangements are possible.

USTR will post submissions in the docket for public inspection, except for submissions properly designated as BCI. You can view submissions on Regulations.gov by entering docket number USTR-2020-0037 in the search field on the home page.

Joseph Barloon,
General Counsel, Office of the United States Trade Representative.

[FR Doc. 2020-26063 Filed 11-24-20; 8:45 am]

BILLING CODE 3290-F0-P